DEPARTMENT OF HOUSING AND URBAN DEVELOPMENT

[Docket No. FR-5100-FA-13]

Announcement of Funding Awards for Fiscal Year 2007; Hispanic-Serving Institutions Assisting Communities Program

AGENCY: Office of the Assistant Secretary for Policy Development and Research, HUD.

ACTION: Announcement of funding awards.

SUMMARY: In accordance with section 102 (a)(4)(C) of the Department of Housing and Urban Development Reform Act of 1989, this document notifies the public of funding awards for Fiscal Year 2007 Hispanic-Serving Institutions Assisting Communities Program (HSIAC). The purpose of this document is to announce the names, addresses and the amount awarded to the winners to be used to help Hispanic-Serving Institutions of Higher Education to expand their role and effectiveness in addressing community development needs in their localities, consistent with the purposes of Title I of the Housing and Community Development Act of 1974 as amended.

FOR FURTHER INFORMATION CONTACT: Susan Brunson, Office of University Partnerships, U.S. Department of Housing and Urban Development, Room 8106, 451 Seventh Street, SW., Washington, DC 20410, telephone (202) 402-3852. To provide service for persons who are hearing-or-speech-impaired, this number may be reached via TTY by Dialing the Federal Information Relay Service on (800) 877-8339 or (202) 708-1455. (Telephone numbers, other than “800” TTY numbers, are not toll free).

SUPPLEMENTARY INFORMATION: The Hispanic-Serving Institutions Assisting Communities Program was approved by Congress under the Revised Continuing Appropriations Resolution, 2007 and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The HSIAC program provides funds for a wide range of CDBG-eligible activities including housing rehabilitation and financing, property demolition or acquisition, public facilities, economic development, business entrepreneurship, and fair housing programs.

The Catalog of Federal Domestic Assistance number for this program is 14.514.

On March 13, 2007, (FR Vol. 72, No. 48, 11477), HUD published a Notice of Funding Availability approximately $5.9 million in Fiscal Year 2007, plus $111,226 in unobligated funds for the HSIAC Program.

The Department reviewed, evaluated, and scored the applications received based on the criteria in the NOFA. As a result, HUD has funded the applications below, in accordance with section 102(a)(4)(C) of the Department of Housing and Urban Development Reform Act of 1989 (103 Stat. 1987, 42 U.S.C. 3545).

List of Awardees for Grant Assistance Under the FY 2007 Hispanic-Serving Institutions Assisting Communities Program Funding Competition, by Institution, Address and Grant Amount

Region VI

1. San Antonio College, Dr. Helen Vera, San Antonio College, 1300 San Pedro Ave., San Antonio, TX 78212-4299. Grant: $597,530.

2. Midland College, Mr. Alfredo Chaparro, Midland College, 3600 North Garfield, Midland, TX 79705. Grant: $600,000.

Region VIII

3. Otero Junior College, Mr. Gary Ashida, Otero Junior College, 1802 Colorado Ave., La Junta, CO 81050. Grant: $599,176.

4. SBCCOES dba Trinidad State Junior College, Ms. Kerry Gabrielson, SBCCOES dba Trinidad State Junior College, 600 Prospect Street, Trinidad, CO 81082. Grant: $599,067.

Region IX

5. Los Angeles Trade-Technical College, Dr. Denise Fairchild, Los Angeles Trade-Technical College, 400 West Washington Blvd., Los Angeles, CA 90015-4181. Grant: $599,979.

6. Los Angeles Valley College, Dr. Deborah diCesare, Los Angeles Valley College, 5800 Fulton Ave., Valley Glen, CA 91401-4096. Grant: $600,000.

7. California State University-Long Beach Foundation, Ms. Denise Bell, California State University-Long Beach Foundation, 6300 State University Drive, Suite 332, Long Beach, CA 90815. Grant: $599,885.

8. Foundation of California State University Monterey Bay, Ms. Patricia Casey, Foundation of California State University Monterey Bay, 100 Campus Center, Bldg. 97, Seaside, CA 93955. Grant: $599,880.

9. Central Arizona-Pinal County Community College District, Mr. Al Larson, Central Arizona-Pinal County Community College District, 8470 North Overfield Road, Coolidge, AZ 85228. Grant: $599,985.

Region X

10. Heritage University, Mr. Rick Gagnier, Heritage University, 3240 Fort Road, Toppenish, WA 98948. Grant: $600,000.

Dated: September 7, 2007.
Darlene F. Williams,
Assistant Secretary for Policy Development and Research.

[FR Doc. E7-18119 Filed 9-13-07; 8:45 am]

BILLING CODE 4210-67-P